DEPARTMENT OF STATE

[Public Notice: 12055]

Advisory Committee for the Study of Eastern Europe and the Independent States of the Former Soviet Union (Title VIII)

In accordance with the provisions of the Federal Advisory Committee Act (Pub. L. 92-463), the Department of State has filed the renewed Charter for the Advisory Committee for the Study of Eastern Europe and the Independent States of the Former Soviet Union (Advisory Committee) for an additional 2 years.

The Advisory Committee was established under the authority of 22 U.S.C. 4503 to provide advice and recommendations to the Secretary of State or his or her designated representative concerning implementation of the Research and Training for Eastern Europe and the Independent States of the Former Soviet Union Act of 1983, Public Law 98-164, as amended (The Act).

The Advisory Committee recommends grant policies for the advancement of the objectives of the Act. In proposing recipients for grants under the Act, the Advisory Committee strives to give the highest priority to national organizations with an interest and expertise in conducting research and training concerning the countries of the former Soviet Union and Eastern Europe and in disseminating the results of such.

Catherine Kuchta-Helbling,
Executive Director, Advisory Committee for Study of Eastern Europe and the Independent States of the Former Soviet Union, Department of State.

[FR Doc. 2023-08750 Filed 4-25-23; 8:45 am]

BILLING CODE 4710-32-P